DEPARTMENT OF COMMERCE

International Trade Administration

[A-570-890]

Wooden Bedroom Furniture from the People's Republic of China: Amended Final Results Pursuant to a Final Court Decision

AGENCY: Import Administration, International Trade Administration, Department of Commerce.

SUMMARY: On October 10, 2008, the United States Court of International Trade (“CIT”) sustained the Department of Commerce's (“Department”) final results of redetermination pursuant to the Department's voluntary remand, wherein the Department granted separate-rate status to Macau Youcheng Trading Co./Zhongshan Youcheng Wooden Arts & Crafts Co., Ltd. (collectively “Youcheng”).¹ The period of review (“POR”) is June 24, 2004, through December 31, 2005. As there is now a final and conclusive court decision in this case, the Department is amending the final results of the first administrative review of wooden bedroom furniture (“WBF”) from the People's Republic of China (“PRC”), to reflect this determination pursuant to a request by the Department for the CIT to grant a remand in this case. See Amended Final Results of Antidumping Duty Administrative Review and New Shipper Reviews: Wooden Bedroom Furniture From the People's Republic of China, 72 FR 46957 (August 22, 2007) (“Amended Final Results”); and Second Amended Final Results of Antidumping Duty Administrative Review: Wooden Bedroom Furniture From the People's Republic of China, 72 FR 62834 (November 7, 2007) (“2nd Amended Final Results”).

¹ See Macau Youcheng Trading Co. and Zhongshan Youcheng Wooden Arts & Crafts Co., Ltd. v. United States Court No. 07-00322: Final Results Of Redetermination Pursuant To Voluntary Remand, dated October 3, 2008 (“Youcheng v. United States”).

EFFECTIVE DATE: January 14, 2009.

FOR FURTHER INFORMATION CONTACT: Frances Veith, AD/CVD Operations, Office 8, Import Administration, International Trade Administration, U.S. Department of Commerce, 14th Street and Constitution Avenue, NW, Washington, DC 20230; telephone: (202) 482-4295.

SUPPLEMENTARY INFORMATION: On August 22, 2007, the Department published its final results in the first administrative review of the antidumping duty order on WBF from the PRC covering the period June 24, 2004, through December 31, 2005, and on November 7, 2007, it published its amended final results.² See Amended Final Results and 2nd Amended Final Results, respectively. In the Amended Final Results, Youcheng was denied a separate rate, because it failed to demonstrate that it made a sale of subject merchandise during the POR, a determination which remained unchanged in the 2nd Amended Final Results.

² As a result of an inadvertent error, the unpublished version of this notice released to interested parties on August 8, 2007, contained the appendix from the investigation of this proceeding, rather than the appendix intended for the first administrative review. The amended final results corrected this error. Because this error was discovered prior to publication in the Federal Register, the amended final results were published in place of the original version released on August 8, 2007.

On September 4, 2007, Youcheng filed a summons and complaint with the CIT challenging the Department's denial of a separate rate to Youcheng. On June 19, 2008, the Department requested a voluntary remand so that the Department could further analyze the record, explain its decision, and take such action as may be appropriate pertaining to the denial of separate-rate status to Youcheng. On June 20, 2008, the CIT granted the Department's voluntary remand motion. On August 22, 2008, we issued our draft redetermination to interested parties for comment. On September 12, 2008, Petitioners³ and Youcheng provided comments on the Department's draft redetermination results.

On October 3, 2008, the Department filed with the CIT its final results of redetermination pursuant to Youcheng v. United States, granting Youcheng a separate rate. On October 10, 2008, the CIT sustained the final results of redetermination on remand. On November 13, 2008, the Department notified the public that the final judgment in this case is not in harmony with the Amended Final Results and the 2nd Amended Final Results. See Wooden Bedroom Furniture from the People's Republic of China: Notice of Court Decision Not in Harmony With Final Results of Administrative Review, 73 FR 67133 (November 13, 2008). The deadline to appeal the redetermination pursuant to remand was December 9, 2008, 60 days after the date the CIT sustained the final results of redetermination on remand (i.e., October 10, 2008). The time period for appealing the CIT's decision has expired and no party has appealed the CIT's decision to the Court of Appeals for the Federal Circuit. Because there is now a final and conclusive court decision in this case, the Department is amending the final results with respect to Youcheng.

³ American Furniture Manufacturers Committee for Legal Trade and Vaughan-Bassett Furniture Company, Inc.

Amended Final Results of Review

The remand redetermination explained that, in accordance with the CIT's instructions, the Department analyzed the record and determined to grant separate-rate status to Youcheng. Based on this reconsideration, Youcheng's status changed from an entity considered as part of the PRC-wide entity, and subject to the PRC-wide rate, to an entity eligible for separate-rate status and having a separate rate. Therefore, we are amending the final results for Youcheng, a company that was not selected for individual review. Accordingly, we are applying to Youcheng a dumping margin equal to the weighted average of the calculated rates for the companies selected for individual review, as detailed below, for the period June 24, 2004, through December 31, 2005.

WBF from the PRC
Separate-Rate Applicant Exporter 1st Administrative Review | Margin (Percent)
Macau Youcheng Trading Co./Zhongshan Youcheng Wooden Arts & Crafts Co., Ltd. | 35.78

Cash Deposit Requirements

Pursuant to the final court decision, the following cash deposit rate will be effective upon publication of these amended final results, for all shipments of subject merchandise exported by Youcheng entered or withdrawn from warehouse, for consumption on or after publication date of this notice. A 35.78 percent cash deposit will be required for subject merchandise exported by Youcheng. Youcheng's cash deposit rate will remain in effect until further notice.

Assessment

The Department has determined, and U.S. Customs and Border Protection (“CBP”) shall assess, antidumping duties on all appropriate entries covered by this amended final results, pursuant to the final court decision. The Department intends to issue assessment instructions to CBP 15 days after the publication date of these amended final results, pursuant to the final court decision. In accordance with 19 CFR 351.212(b)(1), for Youcheng, a company that was not selected for individual review, the assessment rate is based on the weighted average of the cash deposit rates calculated for the companies selected for individual review pursuant to section 735(c)(5)(A) of the Tariff Act of 1930, as amended (“Act”). For further details, see the Amended Final Results and the 2nd Amended Final Results.

Notification to Interested Parties

This notice serves as a final reminder to importers of their responsibility under 19 CFR 351.402(f)(2) to file a certificate regarding the reimbursement of antidumping duties prior to liquidation of the relevant entries. Pursuant to 19 CFR 351.402(f)(3), failure to comply with this requirement could result in the Secretary's presumption that reimbursement of antidumping duties occurred and the subsequent assessment of doubled antidumping duties.

This notice also serves as a reminder to parties subject to administrative protective order (“APO”) of their responsibility concerning the disposition of proprietary information disclosed under APO, in accordance with 19 CFR 351.305 and as explained in the APO itself. Timely written notification of the return/destruction of APO materials or conversion to judicial protective order is hereby requested. Failure to comply with the regulations and the terms of an APO is a sanctionable violation.

This notice is issued and published in accordance with sections 751(a)(1) and 777(i) of the Act.

Dated: January 7, 2009.
Ronald K. Lorentzen,
Acting Assistant Secretary for Import Administration.

[FR Doc. E9-631 Filed 1-13-09; 8:45 am]

BILLING CODE 3510-DS-S